DEPARTMENT OF ENERGY

Draft Environmental Impact Statement for the Proposed Kentucky Pioneer Integrated Gasification Combined Cycle Demonstration Project at Trapp, KY

AGENCY: Department of Energy.

ACTION: Notice of availability.

SUMMARY: The Department of Energy (DOE) announces the availability for public review and comment of the Kentucky Pioneer Integrated Combined Cycle (IGCC) Demonstration Project Draft Environmental Impact Statement (Draft EIS) (DOE/EIS-0318). DOE also announces two public hearings on the Draft EIS. DOE prepared the Draft EIS pursuant to the National Environmental Policy Act (NEPA) of 1969, as amended (42 U.S.C. 4321 et seq.), Council on Environmental Quality NEPA regulations (40 CFR Parts 1500-1508), and the DOE NEPA regulations (10 CFR Part 1021). The Draft EIS evaluates the environmental impacts of the Kentucky Pioneer Integrated Gasification Combined Cycle Project, a proposed Clean Coal Technology Program demonstration project in Clark County, Kentucky that was proposed by Global Energy, Inc. DOE's proposed action is to provide cost-shared funding of approximately $78 million (about 18 percent of the total cost of $432 million) for the proposed project. The project would involve constructing and operating a 540 megawatt-electric IGCC plant at the J.K. Smith Site owned by Eastern Kentucky Power Cooperative. The plant would be powered by synthesis gas generated from coal and refuse-derived fuel and a molten-carbonate fuel cell operating on the synthesis gas. This proposed project is expected to demonstrate the commercial viability of the fixed bed British Gas Lurgi process in the United States, and the operation of a high temperature molten carbonate fuel cell using synthesis gas. IGCC plants can operate at significantly higher efficiencies than conventional coal-fired power plants.

DATES: DOE invites the public to comment on the Kentucky Pioneer IGCC Demonstration Project Draft EIS. Comments should be submitted by January 4, 2002 to ensure consideration (see ADDRESSES section for more details). DOE will consider comments submitted after January 4, 2002, to the extent practicable. Public hearings on the Kentucky Pioneer IGCC Demonstration Project Draft EIS will be held at the Lexington Public Library, 140 East Main Street, Lexington, Kentucky, December 10, 2001, from 7 PM to 9 PM, and at Trapp Elementary School, Clark County, Kentucky, December 11, 2001, from 7 PM to 9 PM. In addition, informal sessions will be held prior to both hearings beginning at 4 p.m. for the public to learn more about the proposed action. Displays and other information about the proposed agency action and location will be available, and DOE personnel will be present to answer questions. The hearings will provide an opportunity for information exchange and discussion among DOE and the public, as well as opportunities for the public to present oral or written comments.

ADDRESSES: Comments may be submitted by U.S. mail, fax, telephone, or electronic mail to: Mr. Roy Spears, NEPA Document Manager, U.S. Department of Energy, National Energy Technology Laboratory, P.O. Box 880, Morgantown, WV 26507-0880, Telephone: 304-285-5460, Fax 304-285-4403, leave message at 1-800-276-9851, rspear@netl.doe.gov.

Requests for copies of the Kentucky Pioneer IGCC Demonstration Project Draft EIS or other information regarding this environmental analysis should be addressed to Mr. Spears at any of the addresses above.

FOR FURTHER INFORMATION CONTACT: For further information on the proposed project or the environmental impact statement, please contact Mr. Spears as directed above. For general information on the Department's NEPA process, please contact Ms. Carol M. Borgstrom, Director, Office of NEPA Policy and Compliance, EH-42, U.S. Department of Energy, 1000 Independence Avenue, SW, Washington, DC 20585. Ms. Borgstrom may be contacted by calling 202-586-4600 or by leaving a message at 1-800-472-2756.

SUPPLEMENTARY INFORMATION:

Background

On April 14, 2000, the Department published a Notice of Intent (65 FR 20142) to prepare an environmental impact statement for the proposed Kentucky Pioneer Energy Integrated Gasification Combined Cycle Demonstration Project, in Clark County, Kentucky. The Notice of Intent informed the public of the proposed scope of the EIS, solicited public input, and announced a public scoping meeting that was held on May 4, 2000, in Trapp, Kentucky. The public scoping period closed on May 31, 2000. Comments received during the public scoping process were considered in preparing the Draft EIS.

Since then, the participant in the Cooperative Agreement, Global Energy, Inc. (Global), changed the proposed solid fuel source from fuel briquettes made from high-sulfur coal and municipal solid waste to co-feeding coal and refuse-derived fuel pellets.

Alternatives Considered

The Draft EIS evaluates a proposed action and two no-action alternatives. DOE's proposed action is to provide Kentucky Pioneer Energy, Inc., a subsidiary of Global, with cost-shared funding of approximately $78 million for the construction and operation of a 540 megawatt-electric (MWe) IGCC plant utilizing synthesis gas generated from coal and refused-derived fuel. The plant would also demonstrate a molten-carbonate fuel cell operating on coal-derived synthesis gas. The proposed location for the project is a 300-acre parcel within the existing 3,120-acre J.K. Smith Site, owned by East Kentucky Power Cooperative. The site is approximately two miles west of Trapp, Kentucky.

The two no-Action alternative scenarios are: (1) Global would not construct power generation facilities; and (2) Global would construct a combined-cycle gas turbine plant fueled by natural gas, without DOE funding. The Draft EIS compares the environmental impacts expected to occur from construction and operation of the proposed IGCC plant and fuel cell under the proposed action with the impacts that would be likely from each of the two no-action alternative scenarios.

The Draft EIS focuses on impacts from construction and operation of the proposed project on the following resource areas: human health, air quality, surface water, groundwater, ecological resources, socioeconomic resources, environmental justice, noise, and traffic and transportation. In addition, impacts on land use, floodplains, wetlands, waste management, and cultural resources are considered.

Availability of the Draft EIS

DOE has distributed copies of the Draft EIS to appropriate Members of Congress, State and local government officials in Kentucky, Federal agencies, and other groups and interested parties. Copies of the document may be obtained by contacting DOE as provided in the section of this notice entitled ADDRESSES. Copies of the Draft EIS are also available for inspection at the locations identified below:

(1) U.S. Department of Energy, Freedom of Information Reading Room, 1E-190, Forrestal Building, 1000 Independence Avenue, SW, Washington, DC 20585.

(2) U.S. Department of Energy, National Energy Technology Laboratory, 3610 Collins Ferry Road, Morgantown, WV 26507-0880.

(3) U.S. Department of Energy, National Energy Technology Laboratory Federal Energy Technology Center, 626 Cochrans Mill Road, Pittsburgh, PA 15236-0940.

(4) Trapp Elementary School, 11400 Irvine Road, Winchester, Kentucky 40391.

(5) Clark County Public Library, 370 South Burns Avenue, Winchester, Kentucky 40391.

(6) Lexington Public Library, 140 East Main Street, Lexington, Kentucky 40507.

Comments on the Draft EIS may be submitted to Mr. Roy Spears (see ADDRESSES above) or provided at public hearings (see DATES above). After the public comment period ends on January 4, 2002, DOE will consider all comments received, revise the Draft EIS as appropriate, and issue a Final EIS. DOE will consider the Final EIS, along with other information, such as economic and technical factors, in deciding whether or not to provide funding for the Kentucky Pioneer IGCC Demonstration Project.

Issued in Washington, DC, this 20th day of November, 2001.
Richard D. Furiga,
Acting Principal Deputy Assistant Secretary for Fossil Energy.

[FR Doc. 01-29576 Filed 11-23-01; 12:51 pm]

BILLING CODE 6450-01-P